FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 1, 2013.

A. Federal Reserve Bank of Atlanta (Chapelle Davis, Assistant Vice President) 1000 Peachtree Street NE., Atlanta, Georgia 30309:

1. Charles P. Stephens, Atlanta, Georgia, individually and as trustee of MAD Trust for S.D. Stephens, SDT U/A 12-23-92 trust, MAD GST for CA Stephens trust, and MAD GST for SR Stephens trust; Sandra D. Stephens, Atlanta, Georgia, individually and as trustee of MAD Trust for S.D. Stephens, MAD GST for CA Stephens trust, and MAD GST for SR Stephens trust; Scott R. Stephens, Lake Panasofkee, Florida, individually and as trustee of MAD Trust for S.D. Stephens; Charles A. Stephens, Atlanta, Georgia, individually; Stephanie T. Stephens, Atlanta, Georgia, individually; Longball Ventures LLC, Jacksonville, Florida; M. Austin Davis Foundation, Jacksonville, Florida; Ventura Investments, LLC, Jacksonville, Florida; SDT U/A 12-23-92 trust, Jacksonville, Florida; MAD GST for CA Stephens trust, Jacksonville, Florida; and MAD GST for SR Stephens trust, Jacksonville, Florida; to retain voting shares of Piedmont Bancorp, Inc., and thereby indirectly retain voting shares of The Piedmont Bank, both in Norcross, Georgia.

B. Federal Reserve Bank of Chicago (Colette A. Fried, Assistant Vice President) 230 South LaSalle Street, Chicago, Illinois 60690-1414:

1. Washington Bancorp Employee Stock Ownership Plan, Washington, Iowa; to retain control of voting shares of Washington Bancorp, and thereby indirectly retain control of Federation Bank, both in Washington, Iowa.

Board of Governors of the Federal Reserve System, June 11, 2013.
Margaret McCloskey Shanks,
Deputy Secretary of the Board.

[FR Doc. 2013-14161 Filed 6-13-13; 8:45 am]

BILLING CODE 6210-01-P